DEPARTMENT OF DEFENSE

Office of the Secretary

Meeting of the Defense Advisory Committee on Military Personnel Testing

AGENCY: Under Secretary of Defense for Personnel and Readiness, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting will take place:

1. Name of Committee: Defense Advisory Committee on Military Personnel Testing.

2. Date: Thursday, May 19, 2011 and Friday, May 20, 2011.

3. Time: From 8:30 a.m. to 4 p.m. on Thursday and 8:30 to Noon on Friday.

4. Location: The meeting will be held at the Hyatt Miami at the Blue, 5300 NW. 87th Avenue, Miami, FL 33178.

5. Purpose of the Meeting: The purpose of the meeting is to review planned changes and progress in developing computerized and paper-and-pencil tests for enlistment.

6. Agenda: The agenda includes an overview of current enlistment test development timelines and planned research for the next 3 years.

7. Public's Accessibility to the Meeting: Pursuant to 5 U.S.C. 552b and 41 CFR 102-3.140 through 102-3.165, and the availability of space, this meeting is open to the public.

8. Committee's Designated Federal Officer or Point of Contact: Dr. Jane M. Arabian, Assistant Director, Accession Policy, Office of the Under Secretary of Defense (Personnel and Readiness), Room 3D1066, The Pentagon, Washington, DC 20301-4000, telephone (703) 697-9271.

SUPPLEMENTARY INFORMATION: Persons desiring to make oral presentations or submit written statements for consideration at the Committee meeting must contact Dr. Jane M. Arabian at the address or telephone number above no later than May 6, 2011.

FOR FURTHER INFORMATION CONTACT: Dr. Jane Arabian, Assistant Director, Accession Policy, Office of the Under Secretary of Defense (Personnel and Readiness), Room 3D1066, The Pentagon, Washington, DC 20301-4000, telephone (703) 697-9271.

Dated: April 14, 2011.
Morgan F. Park,
Alternate OSD Federal Register Liaison Officer, Department of Defense.

[FR Doc. 2011-9440 Filed 4-18-11; 8:45 am]

BILLING CODE 5001-06-P